DEPARTMENT OF HOMELAND SECURITY

Coast Guard

[USCG-2007-26862]

Chemical Transportation Advisory Committee; Subcommittee Meeting

AGENCY: Coast Guard, DHS.

ACTION: Notice of meeting.

SUMMARY: This notice announces the meeting of the Subcommittee of the Chemical Transportation Advisory Committee (CTAC) on the National Fire Protection Association (NFPA) 472 Standard. The Subcommittee on the NFPA 472 Standard will meet to discuss the formation of a new marine emergency responder chapter in NFPA 472, Professional Competence of Responders to Hazardous Materials Incidents. This meeting will be open to the public.

DATES: The Subcommittee on the NFPA 472 Standard will meet on Thursday, February 8, 2007, from 8 a.m. to 4 p.m. (Central Standard Time). This meeting may close early if all business is finished. Written material and requests to make oral presentations should reach the Coast Guard on or before February 1, 2007. Requests to have a copy of your material distributed to each member of the Subcommittee should reach the Coast Guard on or before February 1, 2007.

ADDRESSES: The Subcommittee on the NFPA 472 Standard will meet at Marathon Oil Corporation Headquarters, 5555 San Felipe Road, Houston, TX 77056, on the tenth floor. Send written material and requests to make oral presentations to Commander Richard J. Raksnis, Executive Director of CTAC, Commandant (CG-3PSO-3), U.S. Coast Guard Headquarters, 2100 Second Street SW., Washington, DC 20593-0001. This notice is available on the Internet at http://dms.dot.gov.

FOR FURTHER INFORMATION CONTACT: Commander Richard J. Raksnis, Executive Director of CTAC telephone 202-372-1425, fax 202-372-1926.

SUPPLEMENTARY INFORMATION: Notice of these meetings is given under the Federal Advisory Committee Act, 5 U.S.C. App. (Pub. L. 92-463).

Agenda of the NFPA 472 Subcommittee Meeting on Tuesday, February 8, 2007:

(1) Introduce Subcommittee members and attendees.

(2) Prepare draft chapter for future incorporation into the NFPA 472 Standard, Professional Competence of Responders to Hazardous Materials Incidents.

Procedural

This meeting is open to the public. Please note that the meeting may close early if all business is finished. At the discretion of the Chair, members of the public may make oral presentations during the meetings. If you would like to make an oral presentation at a meeting, please notify the Executive Director and submit written material on or before February 1, 2007.

Information on Services for Individuals With Disabilities

For information on facilities or services for individuals with disabilities, or to request special assistance at the meeting, telephone the Executive Director as soon as possible.

Dated: January 10, 2007.
J.G. Lantz,
Director of National and International Standards, Assistant Commandant for Prevention.

[FR Doc. E7-679 Filed 1-18-07; 8:45 am]

BILLING CODE 4910-15-P